DEPARTMENT OF HEALTH AND HUMAN SERVICES

Centers for Disease Control and Prevention

[60Day-10-0816]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

“Youth Knowledge, Attitudes, and Feedback to Inform Choose Respect Implementation” (OMB no. 0920-0816 exp. 6/30/2012)—Revision—National Center for Injury Prevention and Control (NCIPC), Centers for Disease Control and Prevention (CDC).

Background and Brief Description

A revision of approved OMB# 0920-0816 is requested to reflect adjustments in the age of youth who will participate in the focus group studies and surveys (11-14 will become 11-18). The revision requests permission to ask knowledge and attitude questions at some of the focus groups.

Over a three-year period, NCIPC seeks to understand youths' (ages 11 to 18) knowledge and attitudes regarding healthy and unhealthy relationships, and obtain their feedback regarding message development/placement, creative executions, appropriate partners, and other similar issues, to inform ongoing implementation and evaluation of the Choose Respect campaign, an initiative intended to promote youth awareness of and participation in healthy dating relationships. Communication research indicates that campaign planning implementation must employ a consumer-oriented approach to ensure that program messages/materials, and their placement, can successfully gain the attention of and resonate with the intended audience. To that end, the NCIPC proposes conducting further planning, implementation, and evaluation research that enlists the involvement and support of youth. The proposed information collection will inform message and materials development and provide interim and ongoing feedback to campaign planners regarding the implementation and progress of the campaign.

The proposed data collection will enlist geographically, culturally/racially/ethnically, and socio-economically diverse groups of young people to complete: (1) Ten-minute online surveys, with 200 respondents, up to four times per year; and (2) up to 36 in-person focus groups, with up to eight participants each (or more smaller discussion groups with fewer people per group), twice per year. Online surveys will reduce the potential burden for young people as Web-based formats are convenient and consistent with the way they communicate and spend their leisure time.

Online surveys—Each Web-based survey will involve a different group of tweens/teens. The burden table shows time to screen parents and youth, as well as the actual time to complete the survey (rows 4-6).

In-person focus groups—First and second focus groups will involve different groups of young people. The focus groups will be segmented by age and gender, as indicated. Other variables for segmentation may include, but not be limited to, geography, language, and culture/race/ethnicity. The burden table shows time to screen parents and youth, as well as the actual time for focus groups and a waiting room survey (rows 1-3). The assumption is that two parental contacts will be needed to successfully recruit one respondent for each type of study. There are no costs to respondents other than their time.

Estimate of Annualized Burden Hours
Type of respondents | Data collection type | Number of respondent | Number of responses per respondent | Average burden per response (in hours) | Total burden hours
Parents of boys and girls, ages 11 to 18 and youth ages 11 to 18 | Focus Group Screening Instrument for Parents and Youth | 576 | 2 | 5/60 | 96
Youths ages 11 to 18 | Focus Group Waiting Room Survey | 288 | 2 | 5/60 | 48
Youths ages 11 to 18 | Focus Group Moderator's Guide (participation in focus group) | 288 | 2 | 1.5 | 864
Parents of boys and girls, ages 11 to 18 | Online Survey Email Invitation AND Online Survey Screening Instrument for Parents | 400 | 4 | 5/60 | 133
Youths ages 11 to 18 | Online Survey Screening Instrument for Youth | 400 | 4 | 3/60 | 80
Youths ages 11 to 18 | Online Survey | 200 | 4 | 10/60 | 133
Total |  |  |  |  | 1354

Kimberly S. Lane,
Acting Reports Clearance Officer, Centers for Disease Control and Prevention.

[FR Doc. 2010-9202 Filed 4-20-10; 8:45 am]

BILLING CODE 4163-18-P